ADVISORY COUNCIL ON HISTORIC PRESERVATION

Proposed Alterations to Pawtucket Dam on the Merrimack River in Lowell, MA; Public Meeting

AGENCY: Advisory Council on Historic Preservation.

ACTION: Notice of public meeting.

Overview Information: Public meeting to inform the drafting of formal comments of the Advisory Council on Historic Preservation to the Federal Energy Regulatory Commission, under Section 106 of the National Historic Preservation Act, regarding proposed alterations to Pawtucket Dam on the Merrimack River in Lowell, MA.

SUMMARY: The Federal Energy Regulatory Commission (FERC) has terminated consultation under Section 106 of the National Historic Preservation Act regarding a proposal by the Lowell Hydroelectric Project (Lowell Hydro) to modify the Pawtucket Dam on the Merrimack River in Lowell, Massachusetts. The Advisory Council on Historic Preservation (ACHP) will issue advisory comments to FERC regarding this project on February 22, 2013. The ACHP will hold a public meeting in Lowell on February 5, 2013 to receive stakeholder and public views regarding the effects of the project on historic properties.

DATES: February 5, 2013, from 7:00 p.m. to 9:00 p.m. (E.S.T).

ADDRESSES: Special Events Center, Lowell National Historical Park, Boott Mills, Second Floor, 115 John Street, Lowell, MA 01852.

FOR FURTHER INFORMATION CONTACT: John T. Eddins, Program Analyst/Archaeologist, Office of Federal Agency Programs, Advisory Council on Historic Preservation, 1100 Pennsylvania Avenue NW., Suite 803, Washington, DC 20004; Telephone: 202-606-8553; or Email: pdcomments@achp.gov.

SUPPLEMENTARY INFORMATION: FERC is in the final stages of review of a proposal by the Lowell Hydroelectric Project to modify the Pawtucket Dam on the Merrimack River in the city of Lowell, Middlesex County, Massachusetts. In 2010, Boott Hydropower, Inc. and the Eldred L. Field Hydroelectric Facility Trust (Boott), co-licensees for the Lowell Hydro Project, filed a non-capacity amendment for its license with FERC, proposing modifications to the dam that would address concerns expressed by local residents about flooding associated with Pawtucket dam operations and also more efficiently maintain an operating pool for the hydroelectric facility.

As part of that review process, FERC must comply with Section 106 of the National Historic Preservation Act and its implementing regulations (Section 106), “Protection of Historic Properties” at 36 CFR part 800, which require that federal agencies take into account the effects of undertakings they carry out, financially assist, or license on historic properties. When, as is the case here, an undertaking may adversely affect a historic property but certain parties cannot reach an agreement to resolve such effects, the ACHP issues formal comments to the head of the relevant agency. The public meeting that is the subject of this notice will provide an opportunity for FERC, all consulting parties, and the public to provide their views to the ACHP on this undertaking. The ACHP will consider such views as it develops and finalizes its formal comments.

The Pawtucket Dam is a nationally significant historic engineering resource listed in the National Register of Historic Places (National Register) and as a National Historic Landmark (NHL) within the Lowell Locks and Canals Historic District (LLCHD). The LLCHD is nationally significant as representative of America's first great industrial city and today encompasses the most historically significant extant aggregation of early 19th-century industrial structures and artifacts in the United States. The Pawtucket Dam is also included as a nationally significant structure in the Lowell Historic Preservation District (LHPD) and the National Park Service's List of Classified Structures (LCS) for Lowell National Historic Park (LNHP), both listed on the National Register. Stakeholders and members of the public have expressed concerns about the effects of the project on Pawtucket Dam itself, the LLCHD, LHPD, and LNHP.

On January 8, 2013, FERC determined that agreement on how to resolve adverse effects to these historic properties could not be reached among consulting parties, and requested that the ACHP provide comments in order to conclude the Section 106 review process. A panel of ACHP members will issue comments to the head of the agency within 45 days of the request (i.e., on or before February 22, 2013). Once the head of FERC considers the ACHP comments and responds to them in accordance with the Section 106 regulations and Section 110(l) of the National Historic Preservation Act, FERC will have concluded the Section 106 process and may make a final decision on the project. The head of FERC must provide a summary of the decision that contains a rationale for the decision and evidence of consideration of the ACHP's comments, providing a copy of the summary to the ACHP and all consulting parties, and notifying the public.

Priority for speaking at the public meeting will be given to FERC, the Massachusetts State Historic Preservation Officer, the National Park Service, and Boott, and then to those who notify the ACHP of their desire to speak in advance of the meeting via email to pdcomments@achp.gov or fax to 202-606-5072. Those interested in speaking should provide the name and the organization the speaker officially represents (if any). Speakers may be given prescribed time limits. Requests to speak will also be taken at the meeting. People who have not preregistered will be allowed to speak as time permits.

The ACHP also welcomes written comments from any party. Written comments may be sent via mail (addressed to the attention of John T. Eddins, Program Analyst/Archaeologist, Office of Federal Agency Programs, Advisory Council on Historic Preservation, 1100 Pennsylvania Avenue NW., Suite 803, Washington, DC 20004), fax (at 202-606-8672), or via email (addressed to pdcomments@achp.gov). All written comments received by the ACHP on or before 5 p.m. February 15, 2013, will be part of the public record and reviewed by the ACHP prior to the transmittal of its formal comments.

Authority: 36 CFR 800.7.

Dated: January 29, 2013.
Reid Nelson,
Acting Executive Director.

[FR Doc. 2013-02210 Filed 1-31-13; 8:45 am]

BILLING CODE 4310-K6-P